DEPARTMENT OF HEALTH AND HUMAN SERVICES

Health Resources and Services Administration

Recruitment of Sites for Assignment of National Health Service Corps Scholarship Program Participants

AGENCY: Health Resources and Services Administration (HRSA), Department of Health and Human Services (HHS).

ACTION: Notice.

SUMMARY: This notice announces that the listing of entities that will receive priority for assignments of National Health Service Corps (NHSC) Scholarship recipients (NHSC scholars) was posted on the Health Workforce Connector website (formerly known as the NHSC Jobs Center) at https://connector.hrsa.gov/. The Health Workforce Connector includes sites approved to receive an assignment of NHSC scholars who are available for service during the period of October 1, 2018, through September 30, 2019, as well as the site's Health Professional Shortage Area (HPSA) scores. Please note that entities on this list may or may not have current job vacancies.

DATES: Entities interested in providing additional data and information in support of their inclusion on the proposed listing, or in support of a higher priority determination, must do so in writing no later than June 20, 2018.

ADDRESSES: Entities wishing to submit information to support an entity's inclusion on the list or to request a higher priority determination should submit it to Beth Dillon, Director, Division of Regional Operations, Bureau of Health Workforce, 1961 Stout Street, Denver, CO 80294. HRSA will consider this information when preparing the final list of entities that receive priority for the assignment of NHSC scholars.

SUPPLEMENTARY INFORMATION: The program is not subject to the provisions of Executive Order 12372, Intergovernmental Review of Federal Programs (as implemented through 45 CFR part 100).

Evaluation and Selection Process

In approving applications for the assignment of NHSC scholars, the HHS Secretary shall give priority to any such application that is made for a position in a HPSA with the greatest shortage. HPSAs of greatest shortage are defined by its HPSA scores.

For the program year October 1, 2018, through September 30, 2019, priority for assignment of NHSC scholars will be determined as follows: (1) Primary medical care HPSAs with scores of 18 and above are authorized for the assignment of NHSC scholars who are primary care physicians, primary care nurse practitioners, primary care physician assistants, or certified nurse midwives; (2) mental health HPSAs with scores of 18 and above are authorized for the assignment of NHSC scholars who are psychiatrists, mental health nurse practitioners, or mental health physician assistants; and (3) dental HPSAs with scores of 18 and above are authorized for the assignment of NHSC scholars who are dentists. The NHSC has determined that a minimum HPSA score of 18 for all service-ready NHSC scholars will enable it to meet its statutory obligation to identify a number of entities eligible for NHSC scholar placement that is at least equal to, but not greater than, twice the number of NHSC scholars available to serve in the 2018-2019 placement cycle.

Beginning on April 1, 2019, and on or about April 1 of each subsequent year, HRSA will publish on its website https://connector.hrsa.gov/, the HPSA scores used to determine priority for assignment of NHSC scholars for placement cycles after September 30, 2019, and entities that would receive priority for the placement of NHSC scholars. Entities wishing to provide additional data and information to support their inclusion on the proposed list of entities receiving priority in assignment of NHSC scholars, or to support a higher priority determination, must do so in writing no later than May 1, 2019, or within 30 days following the publication of a revised list in subsequent years.

Sites wishing to request an additional scholar must complete an Additional Scholar Request form available at http://nhsc.hrsa.gov/downloads/additionalrequestform.pdf. NHSC-approved sites that do not meet the authorized threshold HPSA may post job openings on the Health Workforce Connector; however, scholars seeking placement will be advised that they can only compete for positions at sites that meet the threshold that is in effect at the time they seek to be placed at an NHSC-approved site. Although vacancies in HPSAs that have scores less than the authorized threshold are not eligible for scholar placements, such vacancies will be used by the NHSC when evaluating the HPSA threshold score for the next annual scholarship placement cycle.

Application Requests

The list of HPSAs and entities eligible to receive priority for the placement of NHSC scholars is updated periodically. New entities may be added to the Health Workforce Connector during a Site Application competition. Likewise, entities that no longer meet eligibility criteria, including those sites whose 3-year approval as an NHSC service site has lapsed or whose HPSA designation has been withdrawn or whose withdrawal is being processed, will be removed from the priority listing.

Dated: May 15, 2018.
George Sigounas,
Administrator.

[FR Doc. 2018-10699 Filed 5-18-18; 8:45 am]

BILLING CODE 4165-15-P